DEPARTMENT OF COMMERCE

International Trade Administration

[C-570-980]

Crystalline Silicon Photovoltaic Cells, Whether or Not Assembled Into Modules, From the People's Republic of China: Preliminary Results of Countervailing Duty Administrative Review and Intent To Rescind, in Part; 2018

AGENCY: Enforcement and Compliance, International Trade Administration, Department of Commerce.

SUMMARY: The Department of Commerce (Commerce) preliminarily determines that countervailable subsidies are being provided to producers and exporters of crystalline silicon photovoltaic cells, whether or not assembled into modules, (solar cells) from the People's Republic of China (China). Interested parties are invited to comment on these preliminary results.

DATES: Applicable April 23, 2021.

FOR FURTHER INFORMATION CONTACT: Robert Copyak or Lingjun Wang, AD/CVD Operations, Office VII, Enforcement and Compliance, International Trade Administration, U.S. Department of Commerce, 1401 Constitution Avenue NW, Washington, DC 20230; telephone: (202) 482-3642 or (202) 482-2316.

SUPPLEMENTARY INFORMATION:

Background

On February 6, 2020, Commerce initiated an administrative review of the countervailing duty order on solar cells from China.¹ The period of review (POR) is January 1, 2018, through December 31, 2018. This review covers 58 companies, of which Jiawei Solarchina Co. Ltd. (Solarchina) and Wuxi Tianran Photovoltaic Co., Ltd. (Tianran) are the mandatory respondents. Solarchina was unresponsive to Commerce's initial questionnaire. Further, Tianran reported that its subject merchandise exported during the POR was produced by unaffiliated producers Anji DaSol Solar Energy Science & Technology Co., Ltd. (DaSol) and Wuxi Taichang Electronics Co., Ltd. (Taichang). One of Taichang's cross-owned companies did not provide a full response to the initial questionnaire.

¹ See Initiation of Antidumping and Countervailing Duty Administrative Reviews, 85 FR 6896 (February 6, 2020) (Initiation Notice).

On April 24, 2020, Commerce tolled all deadlines in administrative reviews by 50 days.² Subsequently, on July 21, 2020, Commerce tolled certain deadlines in administrative reviews by an additional 60 days.³ On December 2, 2020, Commerce extended the deadline for these preliminary results until no later than April 19, 2021.⁴

² See Memorandum, “Tolling of Deadlines for Antidumping and Countervailing Duty Administrative Reviews in Response to Operational Adjustments Due to COVID-19,” dated April 24, 2020.

³ See Memorandum, “Tolling of Deadlines for Antidumping and Countervailing Duty Administrative Reviews,” dated July 21, 2020.

⁴ See Memorandum, “Crystalline Silicon Photovoltaic Cells, Whether or Not Assembled Into Modules, from the People's Republic of China: Countervailing Duty Administrative Review; 2018: Extension of Deadline for Preliminary Results,” dated December 2, 2020.

For a complete description of the events that followed the initiation of this review, see the Preliminary Decision Memorandum.⁵ A list of topics discussed in the Preliminary Decision Memorandum is included as the appendix to this notice. The Preliminary Decision Memorandum is a public document and is on file electronically via Enforcement and Compliance's Antidumping and Countervailing Duty Centralized Electronic System (ACCESS). ACCESS is available to registered users at http://access.trade.gov. In addition, a complete version of the Preliminary Decision Memorandum can be accessed directly at http://enforcement.trade.gov/frn/.

⁵ See Memorandum, “Decision Memorandum for the Preliminary Results of the Administrative Review of the Countervailing Duty Order on Crystalline Silicon Photovoltaic Cells, Whether or Not Assembled Into Modules, from the People's Republic of China; 2018,” dated concurrently with, and hereby adopted by, this notice (Preliminary Decision Memorandum).

Scope of the Order

The products covered by the countervailing duty order are crystalline silicon photovoltaic cells, and modules, laminates, and panels, consisting of crystalline silicon photovoltaic cells, whether or not partially or fully assembled into other products, including, but not limited to, modules, laminates, panels, and building integrated materials. For a complete description of the scope of this order, see the Preliminary Decision Memorandum.

Intend To Rescind Review, in Part

Pursuant to 19 CFR 351.213(d)(3), we intend to rescind this review on the basis of no shipments with respect to: (1) Chint Solar (Zhejiang) Co., Ltd. (Chint); ⁶ (2) Trina Solar Energy Co., Ltd., and its cross-owned companies (collectively, Trina); ⁷ and (3) eight companies listed in the no shipment letter filed by Yingli Green Energy Holding Company Limited.⁸

⁶ See Chint's Letter, “Crystalline Silicon Photovoltaic Cells, Whether or Not Assembled into Modules from the People's Republic of China—Chint Zhejiang No Shipment Letter,” dated March 9, 2020.

⁷ See Trina's Letter, “Crystalline Silicon Photovoltaic Cells, Whether or Not Assembled into Modules from the People's Republic of China—Notice of No Sales,” dated March 9, 2020. Trina's cross-owned companies are: Changzhou Trina Solar Yabang Energy Co., Ltd., Trina Solar (Changzhou) Science and Technology Co., Ltd., Turpan Trina Solar Energy Co., Ltd., Hubei Trina Solar Energy Co., Ltd., and Yancheng Trina Solar Energy Technology Co., Ltd.

⁸ See Yingli's Letter, “Crystalline Silicon Photovoltaic Cells, Whether or Not Assembled into Modules from the People's Republic of China—Yingli's No Shipment Certification,” dated March 9, 2020. The companies for which we intend to rescind this administrative review are: Baoding Tianwei Yingli New Energy Resources Co., Ltd., Tianjin Yingli New Energy Resources Co., Ltd., Hengshui Yingli New Energy Resources Co., Ltd., Lixian Yingli New Energy Resources Co., Ltd., Baoding Jiasheng Photovoltaic Technology Co., Ltd., Hainan Yingli New Energy Resources Co., Ltd., Yingli Green Energy International Trading Company Limited, and Shenzhen Yingli New Energy Resources Co., Ltd.

In addition, in accordance with 19 CFR 351.213(d)(3), we intend to rescind this review on the basis of no reviewable suspended entries of subject merchandise, according to the U.S. Customs and Border Protection (CBP data), with respect to an additional 25 companies. See Preliminary Decision Memorandum for a full discussion, and Appendix III for a complete list of the companies for which we intend to rescind this administrative review.

Methodology

Commerce is conducting this administrative review in accordance with section 751(a)(1)(A) of the Tariff Act of 1930, as amended (the Act). For each of the subsidy programs found countervailable, Commerce preliminarily finds that there is a subsidy, i.e., a financial contribution from an authority that gives rise to a benefit to the recipient, and that the subsidy is specific.⁹ For a full description of the methodology underlying our preliminary conclusions, including our reliance, in part, on adverse facts available, with the application of adverse inferences, pursuant to sections 776(a) and (b) of the Act, see the Preliminary Decision Memorandum.

⁹ See sections 771(5)(B) and (D) of the Act regarding financial contribution; section 771(5)(E) of the Act regarding benefit; and section 771(5A) of the Act regarding specificity.

Preliminary Rate for Non-Selected Companies Under Review

There are 16 companies for which a review was requested, had reviewable entries and which were not selected as mandatory respondents or found to be cross-owned with a mandatory respondent. See Appendix II. Because the rate calculated for the mandatory respondent, Tianran, was above de minimis and not based entirely on facts available, we applied the subsidy rate calculated for Tianran to these non-selected companies. This methodology for establishing the subsidy rate for the non-selected companies is consistent with our practice and with section 705(c)(5)(A) of the Act.

Preliminary Results of Review

In accordance with 19 CFR 351.221(b)(4)(i), we calculated a countervailable subsidy rate for the mandatory respondent Tianran. Further, pursuant to 19 CFR 351.525(c), we cumulated the benefits from subsidies received by Tianran and DaSol.¹⁰ We determined the countervailable subsidy rate for Solarchina based entirely on adverse facts available, in accordance with section 776 of the Act. We also assigned an individual estimated subsidy rate based on adverse facts available to Tianran's other unaffiliated supplier Taichang, in accordance with section 776 of the Act. Therefore, the only rate that is not zero, de minimis, or based entirely on facts otherwise available is the rate calculated for Tianran. Consequently, as discussed above, the rate calculated for Tianran is also assigned as the rate for all other producers and exporters subject to this review but not selected for individual examination (i.e., non-selected companies).

¹⁰ For a more detailed discussion see the Preliminary Decision Memorandum.

Commerce preliminarily determines the net countervailable subsidy rates for the period January 1, 2018 through December 31, 2018, are as follows:

Company | Subsidy rate (percent)
Jiawei Solarchina Co. Ltd. | 541.94
Wuxi Tianran Photovoltaic Co., Ltd. | 35.63 ¹¹
Wuxi Taichang Electronics Co., Ltd. ¹² | 541.94
Non-Selected Companies Under Review ¹³ | 35.63

Disclosure and Public Comment

¹¹ This rate applies to subject merchandise exported by Tianran and produced by companies other than Taichang.

¹² Commerce preliminarily finds the following companies to be cross-owned with Taichang: China Machinery Engineering Wuxi Co., Ltd (CMEW), and China Machinery Engineering Corporation (CMEC).

¹³ See Appendix II of this notice for a list of all companies that remain under review but were not selected for individual examination, and to whom Commerce has preliminarily assigned the non-selected company rate.

We will disclose to parties to this proceeding the calculations performed in reaching the preliminary results within five days of publication of these preliminary results.¹⁴ Interested parties may submit written comments (case briefs) on the preliminarily results no later than 30 days from the date of publication of this notice, and rebuttal comments (rebuttal briefs) within seven days after the time limit for filing case briefs.¹⁵ Pursuant to 19 CFR 351.309(d)(2), rebuttal briefs must be limited to issues raised in the case briefs. Pursuant to 19 CFR 351.309(c)(2) and (d)(2), parties who submit case or rebuttal briefs are requested to submit with the argument: (1) A statement of the issue; (2) a brief summary of the argument; and (3) a table of authorities.¹⁶

¹⁴ See 19 CFR 351.224(b).

¹⁵ See 19 CFR 351.309(c)(l)(ii) and 351.309(d)(l).

¹⁶ See 19 CFR 351.309(c)(2) and (d)(2).

Pursuant to 19 CFR 351.310(c), interested parties who wish to request a hearing must submit a written request to the Assistant Secretary for Enforcement and Compliance within 30 days of the publication date of this notice. Hearing requests should contain: (1) The party's name, address, and telephone number; (2) the number of participants; and (3) a list of the issues to be discussed. If a request for a hearing is made, Commerce intends to hold the hearing at a time and date to be determined. Parties should confirm the date and time of the hearing two days before the schedule date.

Parties are reminded that briefs and hearing requests are to be filed electronically and received successfully in their entirety through ACCESS by 5:00 p.m. Eastern Time on the due date. Note that Commerce has temporarily modified certain of its requirements for serving documents containing business proprietary information, until further notice.¹⁷

¹⁷ See Temporary Rule Modifying AD/CVD Service Requirements Due to COVID-19; Extension of Effective Period, 85 FR 41363 (July 10, 2020).

Unless the deadline is extended pursuant to section 751(a)(3)(A) of the Act, Commerce intends to issue the final results of this administrative review, including the results of its analysis of the issues raised by the parties in their comments, within 120 days after publication of these preliminary results.

Assessment Rates

In accordance with 19 CFR 351.221(b)(4)(i), we preliminarily assigned subsidy rates in the amounts shown above for the producer/exporters shown above. Upon completion of the administrative review, consistent with section 751(a)(2)(C) of the Act and 19 CFR 351.212(b)(2), Commerce shall determine, and CBP shall assess, countervailing duties on all appropriate entries covered by this review. We intend to issue the assessment instructions to CBP 35 days after publication of the final results of this review.

Cash Deposit Requirement

In accordance with section 751(a)(2)(C) of the Act, Commerce intends, upon publication of the final results, to instruct CBP to collect cash deposit of estimated countervailing duties in the amounts shown for each of the respective companies listed above on shipments of subject merchandise entered, or withdrawal from warehouse, for consumption on or after the publication date of the final results of this review. For all non-reviewed firms, we will instruct CBP to continue to collect cash deposits at the most-recent company-specific or all-others rate applicable to the company, as appropriate. These cash deposit requirements, when imposed, shall remain in effect until further notice.

Notification to Interested Parties

These preliminary results are issued and published pursuant to sections 751(a)(l) and 777(i)(l) of the Act, and 19 CFR 351.213 and 351.221(b)(4).

Dated: April 19, 2021.
Christian Marsh,
Acting Assistant Secretary for Enforcement and Compliance.

Appendix I—List of Topics Discussed in the Preliminary Decision Memorandum

I. Summary

II. Background

III. Intent to Rescind Review, In Part

IV. Non-Selected Companies Under Review

V. Scope of the Order

VI. Diversification of China's Economy

VII. Subsidies Valuation

VIII. Interest Rate Benchmarks, Discount Rates, Inputs, Electricity, and Land Benchmarks

IX. Use of Facts Otherwise Available and Application of Adverse Inferences

X. Analysis of Programs

XI. Disclosure and Public Comment

XII. Recommendation

Appendix II—Non-Selected Companies Under Review

1. Anji DaSol Solar Energy Science & Technology Co., Ltd.

2. Canadian Solar International Limited

3. JA Solar Technology Yangzhou Co., Ltd.

4. Jiawei Solarchina (Shenzhen) Co., Ltd.

5. JingAo Solar Co., Ltd.

6. Jinko Solar Co., Ltd.

7. Jinko Solar Import and Export Co., Ltd.

8. Ningbo Qixin Solar Electrical Appliance Co., Ltd.

9. Risen Energy Co., Ltd.

10. Shanghai BYD Co., Ltd.

11. Shanghai JA Solar Technology Co., Ltd.

12. Shenzhen Sungold Solar Co., Ltd.

13. Shenzhen Topray Solar Co., Ltd.

14. Taizhou BD Trade Co., Ltd.

15. Wuxi Suntech Power Co., Ltd. Luoyang Suntech Power Co., Ltd.

16. Yingli Energy (China) Co., Ltd.

Appendix III—Intent To Rescind Review, In Part

1. Baoding Jiasheng Photovoltaic Technology Co., Ltd.

2. Baoding Tianwei Yingli New Energy Resources Co., Ltd.

3. BYD (Shangluo) Industrial Co., Ltd.

4. Canadian Solar Manufacturing (Changshu) Inc.

5. Canadian Solar Manufacturing (Luoyang) Inc.

6. Changzhou Trina Solar Energy Co., Ltd.

7. Changzhou Trina Solar Yabang Energy Co., Ltd.

8. Chint Solar (Zhejiang) Co., Ltd.

9. De-Tech Trading Limited HK

10. Dongguan Sunworth Solar Energy Co., Ltd.

11. Eoplly New Energy Technology Co., Ltd.

12. ERA Solar Co., Ltd.

13. ET Solar Energy Limited

14. Hainan Yingli New Energy Resources Co., Ltd.

15. Hangzhou Sunny Energy Science and Technology Co., Ltd.

16. Hengdian Group DMEGC Magnetics Co., Ltd.

17. Hengshui Yingli New Energy Resources Co., Ltd.

18. Hubei Trina Solar Energy Co., Ltd.

19. Jiangsu High Hope Int'l Group

20. Jinko Solar International Limited

21. LERRI Solar Technology Co., Ltd.

22. Light Way Green New Energy Co., Ltd.

23. Lixian Yingli New Energy Resources Co., Ltd.

24. Luoyang Suntech Power Co., Ltd.

25. Ningbo ETDZ Holdings, Ltd.

26. Shenzhen Yingli New Energy Resources Co., Ltd.

27. Sumec Hardware & Tools Co., Ltd.

28. Sunpreme Solar Technology (Jiaxing) Co., Ltd.

29. Systemes Versilis, Inc.

30. tenKsolar (Shanghai) Co., Ltd.

31. Tianjin Yingli New Energy Resources Co., Ltd.

32. Tianneng Yingli New Energy Resources Co., Ltd.

33. Toenergy Technology Hangzhou Co., Ltd.

34. Trina Solar (Changzhou) Science and Technology Co., Ltd.

35. Turpan Trina Solar Energy Co., Ltd.

36. Yancheng Trina Solar Energy Technology Co., Ltd.

37. Yingli Green Energy International Trading Company Limited

38. Zhejiang ERA Solar Technology Co., Ltd.

39. Zhejiang Jinko Solar Co., Ltd.

40. Zhejiang Sunflower Light Energy Science & Technology Limited Liability Company

[FR Doc. 2021-08525 Filed 4-22-21; 8:45 am]

BILLING CODE 3510-DS-P